Proclamation 9707 of March 16, 2018

Vocational-Technical Education Week, 2018

By the President of the United States of America

A Proclamation

Across our great Nation, vocational-technical schools prepare Americans for careers in critical sectors of our economy, including manufacturing, construction, and technology fields. These industries are essential to our Nation's prosperity and security, as well as to our success in the competitive global marketplace. During Vocational-Technical Education Week, we highlight the important role that vocational and technical education plays in lifting up our communities and putting millions of Americans on the road to success.

As I said in the State of the Union Address, my Administration is focused on investing in workforce development, especially as the recent tax cuts spur major job creation across the country. Today, 5.9 million American jobs are unfilled, and more than 350,000 of them are in manufacturing. Our Nation needs skilled workers to fill these roles, but the cost of postsecondary education continues to rise while many colleges and universities fail to adequately equip students with skills that align with the jobs in demand. Businesses large and small routinely observe that they cannot find qualified applicants to fill their vacancies. Vocational-technical schools help students explore their passions and enter the workforce with the necessary competencies to secure well-paying, family-sustaining jobs.

My Administration recognizes the importance of increasing access to education, which is why my infrastructure proposal includes important reforms that will make it easier for Americans to access affordable, relevant, and high-quality education that leads to full-time work and long-term careers. It also includes initiatives related to workforce development. Specifically, my proposal would allow students to use Pell Grant funding to pay for cutting-edge, short-term programs that lead to quick and efficient transitions into the workforce. My proposal also calls on the Congress to reauthorize the Perkins Career and Technical Education program and to improve it by making it easier for schools to partner with local businesses to expand apprenticeships, other forms of skills-based learning, and dual-enrollment programs. Further, I have called for reforming the Federal Work-Study program so that more Federal dollars go toward helping students—especially lower-income students—have more meaningful workplace experiences. Through a combination of administrative and legislative actions, my Administration is seeking to train the workforce of today for both the challenges and developments of tomorrow.

Vocational-Technical Education Week reminds us to consider how we can help all Americans achieve the American Dream, by providing opportunities for all of our citizens to secure employment, success, and fulfillment. American strength and prosperity truly rely upon the educational advancement opportunities we make available to our Nation's youth.

NOW, THERFORE, I, DONALD J. TRUMP, President of the United States of America, by virtue of the authority vested in me by the Constitution and the laws of the United States, do hereby proclaim March 18 through March 24, 2018, as Vocational-Technical Education Week. I call upon public officials, educators, librarians, and all Americans to observe this week with appropriate ceremonies and activities designed to highlight the benefits of quality vocational-technical education.

IN WITNESS WHEREOF, I have hereunto set my hand this sixteenth day of March, in the year of our Lord two thousand eighteen, and of the Independence of the United States of America the two hundred and forty-second.

[FR Doc. 2018-05878

Filed 3-20-18; 8:45 am]

Billing code 3295-F8-P